DEPARTMENT OF AGRICULTURE

Forest Service

[IN 0596-AC46]

Small Business Timber Sale Set-Aside Program Share Recomputation; Correction

AGENCY: Forest Service, USDA.

ACTION: Notice of proposed policy directive; correction and extension of public comment.

SUMMARY: The Forest Service published a document in the Federal Register of August 1, 2006, concerning request for comments on Small Business Timber Sale Set-Aside Program Share Recomputation. The document contained a typographical error in the Supplementary Information caption. The Dates caption has been revised to reflect that comments must be received in writing 60 days from the date of publication of this correction notice in the Federal Register.

DATES: Comments must be received in writing by October 10, 2006.

FOR FURTHER INFORMATION CONTACT: Richard Fitzgerald, Assistant Director, Forest Management Staff, by telephone at (202) 205-1753 or by Internet at rfitzgerald@fs.fed.us.

Correction

In the Federal Register of August 1, 2006, in FR Doc. E6-12310, on page 43437, in the first column, first full paragraph, second sentence, correct the Supplementary Information to read:

The Forest Service does not propose to include the IRSCs as they generally have lesser quantities of timber volume and they are governed by the Federal Acquisition Regulation and other procurement related statutes and regulations, as well as the laws and regulations governing set asides for small businesses seeking procurement contracts.

Dated: August 3, 2006.
Joel D. Holtrop,
Deputy Chief for National Forest System.

[FR Doc. E6-12991 Filed 8-8-06; 8:45 am]

BILLING CODE 3410-11-P